DEPARTMENT OF TRANSPORTATION

Federal Highway Administration

Environmental Impact Statement: Cook County, IL

AGENCY: Federal Highway Administration (FHWA), DOT.

ACTION: Notice of Intent.

SUMMARY: The FHWA is issuing this Notice to advise the public that an Environmental Impact Statement (EIS) will be prepared for the 75th Street Corridor Improvement Project, which involves construction of new railroad main tracks, two new rail flyover bridges, and a new rail/roadway grade separation structure within existing rail corridors in the cities of Chicago and Hometown, Cook County, Illinois.

FOR FURTHER INFORMATION CONTACT: Norman R. Stoner, P.E., Division Administrator, Federal Highway Administration, Springfield, Illinois 62703, Phone: (217) 492-4600. George Weber, Chief, Bureau of Railroads, Illinois Department of Transportation, 100 W Randolph Street, Suite 6-600, Chicago, Illinois 60601-3229, Phone: (312) 793-4222.

SUPPLEMENTARY INFORMATION: The FHWA, in cooperation with the Illinois Department of Transportation, Bureau of Railroads, will prepare an EIS on a proposal to reconfigure freight and passenger rail tracks within an existing approximately 12-mile corridor generally centered along 75th Street in south Chicago. The proposed project comprises several elements of the overall Chicago Region Environmental and Transportation Efficiency Program (CREATE), a joint effort of the Illinois Department of Transportation, the Chicago Department of Transportation, and the Association of American Railroads to restructure, modernize, and expand freight and passenger rail facilities and highway grade separations in the Chicago metropolitan area. Alternative configurations of rail flyovers and track realignments will be considered and refined. The no-action alternative will also be evaluated. A preferred alternative will be presented at a public hearing. Preliminary measures to minimize harm, construction cost estimates, and estimated right-of-way and relocation requirements will also be developed.

The proposed action will reduce rail congestion and delays by eliminating conflicts between four freight railroads and two passenger railroads operating in the corridor, improve roadway safety by eliminating an existing at-grade roadway crossing, and allow passenger rail access from the Metra Southwest Service to the LaSalle Street Station, thereby reducing congestion at Union Station. The project area consists of urban residential and industrial land uses, so no natural resource impacts are anticipated. Potential impacts may include residential relocations, effects on community cohesion and travel patterns, impacts to publicly-owned parks, and impacts to properties potentially eligible for listing on the National Register of Historic Places. There is also the potential for noise and air quality impacts.

To ensure that the full range of issues related to this proposed action are addressed, and all substantive issues are identified, this project is being developed using the principles of Context Sensitive Solutions per the Illinois Department of Transportation's Policies and Procedures. A Stakeholder Involvement Plan (SIP) will be developed that will detail the public involvement activities that will be conducted as part of this study, and will address the Coordination Plan requirements of 23 U.S.C. 139(g) within the context of the NEPA process. Under the SIP, an interdisciplinary Project Study Group will be formed to develop the project, and a Community Advisory Group will be formed to provide input to the study process. As part of the EIS process, a scoping meeting for obtaining input from Resource Agencies will be held on June 11, 2010. Public informational meetings, focus meetings with stakeholders, a public hearing, newsletters, a project Web site and interest group meetings will provide opportunities for public involvement. The project's Draft EIS will be available for public and agency review prior to the public hearing. The time and location of the public hearing will be announced in local newspapers. Comments or questions concerning this proposed action and the Draft EIS should be directed to FHWA or the Illinois Department of Transportation at the addresses provided above.

(Catalog of Federal Domestic Assistance Program Number 20.205, Highway Planning and Construction. The regulations implementing Executive Order 12372 regarding intergovernmental consultation of Federal program and activities apply to this program.)

Issued on: April 28, 2010.
Norman R. Stoner,
Division Administrator.

[FR Doc. 2010-10770 Filed 5-6-10; 8:45 am]

BILLING CODE 4910-22-P